NATIONAL CREDIT UNION ADMINISTRATION

Agency Information Collection Activities: Submission for Office of Management and Budget Review; Comment Request; for Extension of a Previously Approved Collection; Golden Parachutes and Indemnification Payments

AGENCY: National Credit Union Administration (NCUA).

ACTION: Request for comment.

SUMMARY: NCUA is announcing that a proposed collection of information has been submitted to the Office of Management and Budget (OMB) for review and clearance under the Paperwork Reduction Act of 1995 (PRA) (Pub. L. 104-13, 44 U.S.C. Chapter 35). The purpose of this notice is to allow for 30 days of public comment. This is related to NCUA's regulation that prohibits, in certain circumstances, a federally insured credit union (FICU) from making golden parachute and indemnification payments to an institution-affiliated party (IAP). The regulation requires requests for a troubled FICU to make a severance or golden parachute payment to an IAP to be submitted in writing to NCUA.

DATES: Comments will be accepted until February 23, 2015.

ADDRESSES: Interested persons are invited to submit comments to: (i) Desk Officer for the National Credit Union Administration, 3133-0183, U.S. Office of Management and Budget, 725 17th Street NW., #10102, Washington, DC 20503, or by email to: oirasubmission@omb.eop.gov; and (ii) Jessica Khouri by mail at the National Credit Union Administration, 1775 Duke Street, Alexandria, VA 22314-3428, by fax at Fax No. 703-837-2861, or by email at OCIOPRA@ncua.gov.

FOR FURTHER INFORMATION CONTACT: Requests for additional information, a copy of the information collection request, or a copy of submitted comments should be directed to Jessica Khouri by mail at the National Credit Union Administration, 1775 Duke Street, Alexandria, VA 22314-3428, by fax at Fax No. 703-837-2861, or by email at OCIOPRA@ncua.gov.

SUPPLEMENTARY INFORMATION:

I. Abstract and Request for Comments

NCUA is extending a previously approved collection of information for 12 CFR 750, Golden Parachute and Indemnification Payments. Part 750 is NCUA's regulation that prohibits, in certain circumstances, a FICU from making golden parachute and indemnification payments to an IAP. The collection of information requirement applies to troubled FICUs seeking approval to make a severance or golden parachute payment to an IAP. Specifically, § 750.6 requires requests for an FICU to make nondiscriminatory severance plan payments under § 750.1(e)(2)(v) and golden parachute payments permitted by § 750.4 to be submitted in writing to NCUA.

In NCUA's experience, FICU requests to make severance and golden parachute payments within the scope of the rule do not occur often. NCUA estimates that, as of June 30, 2014, there are 6,429 FICUs. Of those, there were 278 problem FICUs with CAMEL 4 or 5 ratings. Of those, 229 FICUs had less than $50 million in total assets and an additional 22 FICUs had less than $100 million in total assets. These smaller FICUs are unlikely to seek NCUA approval to make severance or golden parachute payments because these payments are more typically seen in the executive compensation of larger, more complex FICUs. Of the remaining 27 larger problem FICUs, NCUA anticipates no more than 20 percent would seek NCUA approval to make a severance or golden parachute payment. Accordingly, NCUA estimates that on an annual basis and across all FICUs, only approximately five FICUs will need to solicit NCUA approval in advance of making a severance or golden parachute payment within the scope of the rule and that preparing the request for approval may take four hours. Five FICUs times four hours per respondent equals 20 annual burden hours.

In the Federal Register of November 5, 2014 (79 FR 65711), NCUA published a 60-day notice requesting public comment on the proposed collection of information. NCUA received no comments during that period.

An agency may not conduct or sponsor, and a person is not required to respond to, a collection of information unless it displays a currently valid OMB control number.

NCUA requests that you send your comments on the information collection requirements to the locations listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: Golden Parachutes and Indemnification Payments.

OMB Number: 3133-0183.

Form Number: None.

Type of Review: Extension of a previously approved collection.

Description: Part 750 is NCUA's regulation prohibit, in certain circumstances, a FICU from making golden parachute and indemnification payments to an IAP. The collection of information requirement only affects troubled FICUs seeking approval to make a severance or golden parachute payment to an IAP. Specifically, § 750.6 requires requests for an FICU to make nondiscriminatory severance plan payments under § 750.1(e)(2)(v) and golden parachute payments permitted by § 750.4 to be submitted in writing to NCUA.

Respondents: Federally Insured Credit Unions.

Estimated No. of Respondents/Recordkeepers: 5.

Frequency of Response: Upon Request.

Estimated Burden Hours per Response: 4.

Estimated Total Annual Burden Hours: 20.

Estimated Total Annual Cost: $800.

By the National Credit Union Administration Board on January 14, 2015.
Gerard Poliquin,
Secretary of the Board.

[FR Doc. 2015-00976 Filed 1-21-15; 8:45 am]

BILLING CODE 7535-01-P